DEPARTMENT OF TRANSPORTATION

Federal Aviation Administration

14 CFR Part 39

[Docket No. 2001-NE-34-AD; Amendment 39-13257; AD 2003-16-04]

RIN 2120-AA64

Airworthiness Directives; Pratt & Whitney Canada Turboprop Engines

AGENCY: Federal Aviation Administration, DOT.

ACTION: Final rule.

SUMMARY: This amendment adopts a new airworthiness directive (AD) that applies to Pratt & Whitney Canada (PWC) engine models PW118, PW118A, PW118B, PW119B, PW119C, PW120, PW120A, PW121, PW121A, PW123, PW123B, PW123C, PW123D, PW123E, PW123AF, PW124B, PW125B, PW126, PW126A, PW127, PW127B, PW127E, PW127F, PW127G, PW127H, and PW127J turboprop engines. This amendment requires replacing certain Stewart Warner part number (P/N) fuel heaters, installed on PWC engines, with redesigned fuel heaters. This amendment is prompted by several field incidents in which one or more of the three studs that attach the fuel filter bowl to the fuel heater have been partially or completely pulled free of the fuel heater housing. We are issuing this AD to prevent the separation of the fuel filter bowl from the fuel heater, which could result in a pressurized fuel leak and possible engine fire.

DATES: Effective September 10, 2003.

ADDRESSES: The service information referenced in this AD may be obtained from Pratt & Whitney Canada Corp., 1000, Marie-Victorin, Longueuil, Quebec, Canada J4G 1A1; Telephone 450-677-9411. This information may be examined, by appointment, at the Federal Aviation Administration (FAA), New England Region, Office of the Regional Counsel, 12 New England Executive Park, Burlington, MA.

FOR FURTHER INFORMATION CONTACT: Ian Dargin, Aerospace Engineer, Engine Certification Office, FAA, Engine and Propeller Directorate, 12 New England Executive Park, Burlington, MA 01803-5299; telephone (781) 238-7178; fax (781) 238-7199.

SUPPLEMENTARY INFORMATION: A proposal to amend part 39 of the Federal Aviation Regulations (14 CFR part 39) to include an AD that applies to PWC engine models PW118, PW118A, PW118B, PW119B, PW119C, PW120, PW120A, PW121, PW121A, PW123, PW123B, PW123C, PW123D, PW123E, PW123AF, PW124B, PW125B, PW126, PW126A, PW127, PW127B, PW127E, PW127F, PW127G, PW127H, and PW127J turboprop engines was published in the Federal Register on July 3, 2002 (67 FR 44578). That action proposed to require replacing certain Stewart Warner P/N fuel heaters, installed on PWC engines, with redesigned fuel heaters.

Comments

Interested persons have been afforded an opportunity to participate in the making of this amendment. Due consideration has been given to the comments received.

Request for Stewart Warner Cross-Referenced Vendor Part Number

Three commenters request that we call out the specific Stewart Warner fuel heater cross-referenced vendor P/N series associated with each PWC “Interchangeable Control” (IC) P/N. The commenters feel that the intent of PWC service bulletin (SB) PW100-72-21100, Revision 3, dated May 1, 2001, was to remove only those Stewart Warner fuel heaters P/N series 10718 from service and not all vendor P/Ns associated with the PWC IC P/N.

The FAA agrees. We agree that the use of the PWC IC P/N is confusing and does not achieve the intent of the SB to remove only the faulty Stewart Warner part. The details in the Proposed Requirements of this AD section are not repeated in the final rule; therefore no changes will be made to that section in the AD. However, Compliance paragraphs (a) and (b) in the AD are changed as a result of this comment.

Request for Reference to PWC Service Bulletin

One commenter requests that PWC SB PW100-72-21100, Revision 3, dated May 1, 2001, be included in the AD because it introduces P/N 3039798 fuel heaters. The commenter believes that the SB reference should be included as a means of compliance with the AD.

The FAA does not agree. We agree that the reference to the SB would be helpful; however, we clarify the Steward Warner P/N series fuel heaters in the AD. We feel that the SB would unnecessarily limit the acceptable replacement parts to only those listed in the SB.

Request To Rewrite the “Applicable to” Statement

One commenter requests that we rewrite the “applicable to” statement in the SUMMARY preamble from “* * * applicable to Pratt & Whitney Canada (PWC) models” to “* * * applicable to Pratt & Whitney (PWC) engine models” for clarity.

The FAA agrees. The “applicable to” statement is changed in the AD in the SUMMARY, the SUPPLEMENTARY INFORMATION, and the Applicability sections.

Request To Rewrite the “Would Require” Statement

One commenter requests that we rewrite the “would require” statement in the SUMMARY preamble from “* * * certain part number (P/N) fuel heaters with redesigned fuel heaters” to “* * * certain Stewart Warner part number

(P/N) fuel heaters installed on PWC engines, with redesigned fuel heaters'' for clarity.

The FAA agrees. The “would require” statement is changed in the SUMMARY, the SUPPLEMENTARY INFORMATION, and the Applicability sections in the AD.

Request To Rewrite the Discussion Section

One commenter requests that we rewrite the first sentence in the Discussion preamble from “* * * notified the FAA that an unsafe condition may exist on PWC models * * *” to “* * * notified the FAA that an unsafe condition may exist on PWC engine models * * *” for clarity.

The FAA agrees. However, the Discussion section details are not repeated in the final rule after an NPRM, and therefore, the AD remains unchanged as a result of this comment.

The same commenter requests that we add a new sentence at the end of the Discussion preamble for clarity. The sentence would read “Stewart Warner is the manufacturer of the fuel heaters involved in the reported field incidents and the only manufacturer of fuel heaters affected by this AD.”

The FAA agrees. However, the Discussion section details are not repeated in the final rule after an NPRM, and therefore, the AD remains unchanged as a result of this comment.

After careful review of the available data, including the comments noted above, the FAA has determined that air safety and the public interest require the adoption of the rule with the changes described previously. The FAA has determined that these changes will neither increase the economic burden on any operator nor increase the scope of the AD.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action: (1) Is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-16-04 Pratt & Whitney Canada: Amendment 39-13257. Docket No. 2001NE-34-AD.

Applicability

This airworthiness directive (AD) applies to Pratt & Whitney Canada (PWC) engine models PW118, PW118A, PW118B, PW119B, PW119C, PW120, PW120A, PW121, PW121A, PW123, PW123B, PW123C, PW123D, PW123E, PW123AF, PW124B, PW125B, PW126, PW126A, PW127, PW127B, PW127E, PW127F, PW127G, PW127H, and PW127J turboprop engines. These engines are installed on, but not limited to the following airplanes: Aerospatiale ATR-42 and -72; Bombardier DHC-8 series 100, 200, and 300, CL-215T and -415; Construcciones Aeronautics, S.A. (CASA) C-295; Empresa Brasileira de Aeronautica S.A. (EMBRAER) EMB-120; Fairchild Dornier 328, Fokker 50 and 60; Ilyushin IL-114-100; BAE Systems (Operations) Ltd. ATP; and XIAN MA-60.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance

You are responsible for having the actions required by this AD performed within the compliance times specified unless the actions have already been done.

To prevent the separation of the fuel filter bowl from the fuel heater, which could result in a pressurized fuel leak and possible engine fire, do the following:

(a) Replace, on PWC engines, Stewart Warner fuel heater part number (P/N) series 10718, with fuel heater P/N series 10839 or other acceptable parts identified under the PWC Interchangeable Control Part Number, at the next removal of the engine low pressure fuel filter, but not later than 90 days after the effective date of this AD.

(b) Do not install on PWC engines any Stewart Warner fuel heater P/N series 10718, after the effective date of this AD.

Alternative Methods of Compliance

(c) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(d) Special flight permits may be issued in accordance with §§ 21.197 and 21.199 of the Federal Aviation Regulations (14 CFR 21.197 and 21.199) to operate the airplane to a location where the requirements of this AD can be done.

Note 3: The subject of this AD is addressed in Transport Canada airworthiness directive CF-2000-34, dated November 23, 2000.

Effective Date

(e) This amendment becomes effective on September 10, 2003.

Issued in Burlington, Massachusetts, on July 30, 2003.
Francis A. Favara,
Acting Manager, Engine and Propeller Directorate, Aircraft Certification Service.

[FR Doc. 03-19840 Filed 8-5-03; 8:45 am]

BILLING CODE 4910-13-P